DEPARTMENT OF HEALTH AND HUMAN SERVICES

National Institutes of Health

Center for Scientific Review; Amended Notice of Meeting

Notice is hereby given of a change in the meeting of the Hepatobiliary Pathophysiology Study Section, October 15, 2013, 8:00 a.m. to October 16, 2013, 1:00 p.m., Residence Inn Bethesda, 7335 Wisconsin Avenue, Bethesda, MD 20814 which was published in the Federal Register on September 16, 2013, 78 FR 56905.

The meeting will be held at the National Institutes of Health, 6701 Rockledge Drive, Bethesda, MD 20892. The meeting will start on December 5, 2013 at 8:00 a.m. and end on December 9, 2013 at 5:00 p.m. The meeting is closed to the public.

Dated: October 25, 2013.
Anna Snouffer,
Deputy Director, Office of Federal Advisory Committee Policy.

[FR Doc. 2013-25884 Filed 10-30-13; 8:45 am]

BILLING CODE 4140-01-P